DEPARTMENT OF ENERGY

Federal Energy Regulatory Commission

[Docket No. CP02-47-002]

Dominion Transmission, Inc., Tennessee Gas Pipeline Company; Notice of Amended Application

September 13, 2002.

Take notice that on August 22, 2002, Dominion Transmission, Inc. (DTI), 445 West Main Street, Clarksburg, West Virginia 26301, and Tennessee Gas Pipeline Company (Tennessee), 9 E Greenway Plaza, Houston, Texas 77002, filed an abbreviated Joint Application to amend a certificate of public convenience and necessity pursuant to section 7 of the Natural Gas Act and Part 157 of the Commission's Rules and Regulations. Applicants request certificate authorization to implement an Amended Lease previously authorized by the Commission in 99 FERC ¶ 61,367 (2002); Docket No. CP02-47-000, between DTI and Tennessee for 150,000 dekatherms per day of capacity on DTI's pipeline between Ellisburg, Pennsylvania and Leidy, Pennsylvania. Applicants propose a phasing in of the capacity that was not originally contemplated in their application in CP02-47-000. Specifically, Applicants are seeking Commission approval of an amended lease that will allow DTI to provide leased capacity to Tennessee at a level of 130,000 Dth/d until such time as the remaining 20,000 Dth/d becomes available. Applicants also request that intermediate decision procedures be omitted, pursuant to Rules 801 and 802 of the Commission's Rules of Practice and Procedure. This filing is available for review at the Commission in the Public Reference Room or may be viewed on the Commission's Web site at http://www.ferc.gov using the “FERRIS” link. Enter the docket number excluding the last three digits in the docket number field to access the document. For Assistance, call (202) 502-8222 or for TTY, (202) 502-8569.

There are two ways to become involved in the Commission's review of this project. First, any person wishing to obtain legal status by becoming a party to the proceedings for this project should, on or before September 19, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings. Comments, protests and interventions may be filed electronically via the Internet in lieu of paper. See, 18 CFR 385.2001(a)(1)(iii) and the instructions on the Commission's Web site under the “e-Filing” link.

If the Commission decides to set the amendment for a formal hearing before an Administrative Law Judge, the Commission will issue another notice describing that process. At the end of the Commission's review process, a final Commission order approving or denying a certificate will be issued.

Magalie R. Salas,
Secretary.

[FR Doc. 02-23863 Filed 9-19-02; 8:45 am]

BILLING CODE 6717-01-P